DEPARTMENT OF EDUCATION

Disability and Rehabilitation Research Projects and Centers Program—National Data and Statistical Center for the Burn Model Systems

AGENCY: Office of Special Education and Rehabilitative Services, Department of Education.

ACTION: Notice.

Overview Information

CFDA Number: 84.133A-4.

Final priority; National Institute on Disability and Rehabilitation Research (NIDRR)—Disability and Rehabilitation Research Projects and Centers Program—Disability Rehabilitation Research Project (DRRP)—National Data and Statistical Center for the Burn Model Systems.

SUMMARY: The Assistant Secretary for Special Education and Rehabilitative Services announces a priority for the Disability and Rehabilitation Research Projects and Centers Program administered by the National Institute on Disability and Rehabilitation Research (NIDRR). Specifically, this notice announces a priority for a National Data and Statistical Center for the Burn Model Systems (National BMS Data Center). The Assistant Secretary may use this priority for a competition in fiscal year (FY) 2012 and later years. We take this action to focus research attention on areas of national need.

DATES: Effective Date: This priority is effective July 9, 2012.

FOR FURTHER INFORMATION CONTACT: Lynn Medley, U.S. Department of Education, 400 Maryland Avenue SW., Room 5140, Potomac Center Plaza (PCP), Washington, DC 20202-2700. Telephone: (202) 245-7338 or by email: lynn.medley@ed.gov.

If you use a telecommunications device for the deaf (TDD) or a text telephone (TTY), call the Federal Relay Service (FRS), toll free, at 1-800-877-8339.

SUPPLEMENTARY INFORMATION: This notice of final priority (NFP) is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice, and (6) disseminate findings.

This notice announces a final priority that NIDRR intends to use for a DRRP competition in FY 2012 and possibly later years. However, nothing precludes NIDRR from publishing additional priorities, if needed. Furthermore, NIDRR is under no obligation to make an award for this priority. The decision to make an award will be based on the quality of applications received and available funding.

Purpose of Program

The purpose of the Disability and Rehabilitation Research Projects and Centers Program is to plan and conduct research, demonstration projects, training, and related activities, including international activities, to develop methods, procedures, and rehabilitation technologies that maximize the full inclusion and integration of individuals with disabilities into society, and promote the employment, independent living, family support, and economic and social self-sufficiency of individuals with disabilities, especially individuals with the most severe disabilities; and to improve the effectiveness of services authorized under the Rehabilitation Act of 1973, as amended (Rehabilitation Act).

Disability and Rehabilitation Research Projects (DRRPs)

The purpose of DRRPs, which are funded under NIDRR's Disability and Rehabilitation Research Projects and Centers Program, is to improve the effectiveness of services authorized under the Rehabilitation Act of 1973, as amended, by developing methods, procedures, and rehabilitation technologies that advance a wide range of independent living and employment outcomes for individuals with disabilities, especially individuals with the most severe disabilities. DRRPs carry out one or more of the following types of activities, as specified and defined in 34 CFR 350.13 through 350.19: Research, training, demonstration, development, dissemination, utilization, and technical assistance. Additional information on DRRPs can be found at: http://www2.ed.gov/rschstat/research/pubs/res-program.html#DRRP.

Program Authority: 29 U.S.C. 762(g) and 764(a).

Applicable Program Regulations: 34 CFR part 350.

We published a notice of proposed priority for this program in the Federal Register on March 7, 2012 (77 FR 13575). That notice contained background information and our reasons for proposing the particular priority.

Public Comment: In response to our invitation in the notice of proposed priority, six parties submitted comments on the proposed priority.

Generally, we do not address technical and other minor changes. In addition, we do not address general comments that raised concerns not directly related to the proposed priority.

Analysis of Comments and Changes: An analysis of the comments and of any changes in the priority since publication of the notice of proposed priority follows.

Comment: With regard to paragraph (a) of the priority, one commenter suggested that NIDRR specify that the database be accessible to analysts using a variety of computer operating systems and data analysis software programs.

Discussion: NIDRR agrees with the commenter. To promote widespread use of the BMS Database, we have modified the priority as suggested.

Changes: We have added a sentence to paragraph (a) of the priority to state that the database must be accessible to researchers and analysts using a variety of computer operating systems and data analysis software programs.

Comment: With regard to paragraph (e) of the priority, one commenter recommended that NIDRR require the National BMS Data Center to collaborate with the American Burn Association (ABA) to facilitate synergies between and outcomes of, the national longitudinal Burn Model Systems (BMS) database and the database maintained by the ABA.

Discussion: NIDRR agrees with the commenter that collaboration between the National BMS Data Center and the ABA may lead to improved outcomes of the BMS Database. Paragraph (e) of the priority requires the grantee to pursue strategies to improve efficiency of the BMS Database, including collaborations with the National Data and Statistical Center for Traumatic Brain Injury Model Systems, the National Data and Statistical Center for Spinal Cord Injury Model Systems, and the Model Systems Knowledge Translation Center (MSKTC). Applicants may propose to collaborate with the ABA to carry out any number of strategies to achieve this outcome. We believe that providing applicants with the flexibility to collaborate with the ABA is preferable to requiring that all applicants propose to collaborate with the ABA.

Changes: In paragraph (e), NIDRR has clarified that it seeks improved efficiency of the BMS Database operations through collaborations between the National BMS Data Center and other entities, including those entities that maintain large databases with information about the experiences and outcomes of individuals with disabilities. NIDRR has added the American Burn Association to the list of possible collaborators in paragraph (e) of the priority.

Comment: One commenter asked whether the BMS Centers funded under the BMS Centers priority would be engaged in a collaborative research project and, if so, whether applicants under the National BMS Data Center priority should plan to provide statistical and other methodological consultation to this collaborative project.

Discussion: Grantees under the proposed BMS Centers priority will not engage in a collaborative research project. Therefore, applicants under the BMS National Data and Statistical Center do not need to propose support for such a project.

Changes: None.

Comment: One commenter asked whether the grantee under this priority will be required to participate in the state-of-the-science conference that is described in the BMS Centers priority or in the Project Directors' meetings for the BMS Centers. The commenter asked whether applicants applying under this priority should budget for the costs of travel and attendance at the conference and meetings.

Discussion: The BMS Centers priority, announced in a separate notice of final priority, no longer includes a requirement that the BMS Centers budget to support a state-of-the-science conference. Thus, the National BMS Data Center is not required to budget for participation in a state-of-the-science conference. The BMS Centers priority does, however, include a requirement for grantees to participate in BMS Centers Project Directors' meetings. We believe that participation in the BMS Centers Project Directors' meetings by representatives of the National BMS Data Center is critical because those meetings include discussion and oversight of data collection policies and procedures, possible changes to variables collected by the BMS Centers, threats to data quality and possible solutions, as well as reports on the Centers' follow-up rates and missing data rates. For this reason, we are revising this priority to require that the National BMS Data Center ensure that its Project Director participates in two annual face-to-face BMS Center Project Directors' meetings.

Change: NIDRR has added language to the priority to require that the National BMS Data Center ensure that its Project Director participates in two annual face-to-face BMS Center Project Directors' meetings, one of which will take place in the greater Washington, DC area and once in conjunction with the annual ABA Convention.

Final Priority

Priority—National Data and Statistical Center for the Burn Model Systems

The Assistant Secretary for Special Education and Rehabilitative Services announces a priority for a National Data and Statistical Center for the Burn Model Systems (National BMS Data Center). The National BMS Data Center must advance medical rehabilitation by increasing the rigor and efficiency of scientific efforts to assess the experiences and outcomes of individuals with burn injury. To meet this priority, the National BMS Data Center's research and technical assistance must be designed to contribute to the following outcomes:

(a) Maintenance of a national longitudinal database (BMS Database) for data submitted by each of the Burn Model Systems Centers (BMS Centers). This database must provide confidentiality, quality control, and data-retrieval capabilities, using cost-effective technology and user-friendly interfaces. The database must be accessible to researchers and analysts using a variety of computer operating systems and data analysis software programs.

(b) High-quality, reliable data in the BMS Database. The National BMS Data Center must contribute to this outcome by providing training and technical assistance to BMS Centers on subject retention and data collection procedures, data entry methods, and appropriate use of study instruments, and by monitoring the quality of the data submitted by the BMS Centers.

(c) High-quality data collected from database participants of all racial and ethnic backgrounds. The National BMS Data Center must contribute to this outcome by providing knowledge, training, and technical assistance to the BMS Centers on culturally appropriate methods of longitudinal data collection and participant retention.

(d) Rigorous research conducted by BMS Centers and investigators from outside of the BMS network who are analyzing data from the BMS Database. The National BMS Data Center must contribute to this outcome by making statistical and other methodological consultation available for research projects that use the BMS Database, as well as site-specific research projects being conducted by the BMS Centers.

(e) Improved efficiency of the BMS Database operations. The National BMS Data Center must contribute to this outcome by collaborating with other entities, including those that maintain large databases with information about the experiences and outcomes of individuals with disabilities. These entities may include, but are not limited to the National Data and Statistical Center for Traumatic Brain Injury Model Systems, the National Data and Statistical Center for Spinal Cord Injury Model Systems, the Model Systems Knowledge Translation Center (MSKTC), and the American Burn Association.

(f) Improved reports for the public from the BMS Database. The National BMS Data Center must produce a report based on the BMS Database at least once a year that provides basic demographic, epidemiological, and outcome information about burn survivors. The National BMS Data Center must collaborate with the MSKTC to distribute information about burn injury and burn rehabilitation to the public through a NIDRR-funded Web site and other media.

To facilitate these outcomes, the National BMS Data Center must ensure that its Project Director participates in two annual face-to-face BMS Center Project Directors' meetings. One of these annual meetings will take place in the greater Washington, DC area and one in conjunction with the annual American Burn Association Convention.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and Tribal governments in the exercise of their governmental functions.

In accordance with both Executive orders, the Department has assessed the potential costs and benefits, both quantitative and qualitative, of this regulatory action. The potential costs are those resulting from statutory requirements and those we have determined as necessary for administering the Department's programs and activities.

Summary of Potential Costs and Benefits

The benefits of the Disability and Rehabilitation Research Projects and Centers Programs have been well established over the years in that similar projects have been completed successfully. This final priority will generate new knowledge through research and development.

Another benefit of the final priority is that establishing a new DRRP will improve the lives of individuals with disabilities. The new DRRP will provide support and assistance for NIDRR grantees as they generate, disseminate, and promote the use of new information that will improve the options for individuals with disabilities to perform regular activities of their choice in the community.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: June 4, 2012.
Alexa Posny,
Assistant Secretary for Special Education and Rehabilitative Services.

[FR Doc. 2012-13858 Filed 6-6-12; 8:45 am]

BILLING CODE 4000-01-P